FEDERAL COMMUNICATIONS COMMISSION

47 CFR Part 54

[WC Docket Nos. 10-90, 14-58; CC Docket No. 01-92; FCC 16-33]

Connect America Fund, ETC Annual Reports and Certifications, Developing a Unified Intercarrier Compensation Regime

AGENCY: Federal Communications Commission.

ACTION: Final rule; correction.

SUMMARY: This document corrects errors in a Federal Register document that corrected errors to an original Federal Register document that adopted significant reforms to place the universal service program on solid footing for the next decade to “preserve and advance” voice and broadband service in areas served by rate-of-return carriers. The document was published in the Federal Register on March 20, 2017.

DATES: Effective April 3, 2017.

FOR FURTHER INFORMATION CONTACT: Alexander Minard, Wireline Competition Bureau, (202) 418-7400.

SUPPLEMENTARY INFORMATION: This summary contains corrections to a Federal Register document, 82 FR 14338 (March 20, 2017).

Corrections

In final rule FR Doc. 2017-04715, published March 20, 2017 (82 FR 14338), make the following correction:

§ 54.303 [Corrected]

1. On page 14339, in the first column, amendatory instruction 3 is corrected to read “In § 54.303, revise paragraphs (a)(1), (b), (c)(2), (e), and (f)(1) to read as follows:”

Federal Communications Commission.
Marlene H. Dortch,
Secretary.

[FR Doc. 2017-06485 Filed 3-31-17; 8:45 am]

BILLING CODE 6712-01-P